DEPARTMENT OF AGRICULTURE

Forest Service

Georgetown Lake Vegetation Management, Philipsburg Ranger District, Beaverhead Deerlodge National Forest, Granite and Deer Lodge Counties, MT

AGENCY: Forest Service, USDA.

ACTION: Cancellation of a notice; intent to prepare environmental impact statement.

SUMMARY: The Forest Service is canceling a notice of intent previously published on December 9, 2002: Volume 67, Number 236; pages 72902-72903; Georgetown Lake Vegetation Management environmental impact statement (EIS).

DATES: April 26, 2004.

FOR FURTHER INFORMATION CONTACT: Mark Giacoletto, Fire Management Officer, Philipsburg Ranger District, 88 10A Business Loop, Philipsburg, MT 59858, or phone: (406) 859-3211.

Dated: April 26, 2004.
Thomas K. Reilly,
Forest Supervisor, Beaverhead Deerlodge National Forest.

[FR Doc. 04-9954 Filed 4-30-04; 8:45 am]

BILLING CODE 3410-11-M